DEPARTMENT OF COMMERCE

National Oceanic and Atmospheric Administration

RIN 0648-XE199

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a four-day meeting to consider actions affecting the Gulf of Mexico fisheries in the exclusive economic zone (EEZ).

DATES: The meeting will be held on Monday, Tuesday, Wednesday, and Thursday, October 5-8, 2015, starting at 8:30 a.m. daily.

ADDRESSES: The meeting will be held at the Hilton Galveston Island Hotel, 5400 Seawall Boulevard, Galveston, TX 77551; telephone: (409) 744-5000; fax: (409) 740-2209.

Council address: Gulf of Mexico Fishery Management Council, 2203 N. Lois Avenue, Suite 1100, Tampa, FL 33607; telephone: (813) 348-1630.

FOR FURTHER INFORMATION CONTACT: Douglas Gregory, Executive Director, Gulf of Mexico Fishery Management Council; telephone: (813) 348-1630.

SUPPLEMENTARY INFORMATION:

Agenda

Monday, October 5, 2015

The Gulf Council will begin with updates and presentations from management committees. The Sustainable Fisheries/Ecosystem Management Committee will review the Integrated Ecosystem Assessment—Management Strategy Evaluation, and receive a presentation on NOAA's Ecosystem Based Fisheries Management Policy. The Joint Administrative Policy & Budget/Personnel Management Committee will review the new Advisory Panels (AP) Staggered Terms, modifications to the standard operating practices and procedures (SOPPs) section discussing AP Appointments, Administrative Committee structure, and review of the Magnuson-Stevens Act Reauthorization Bills. The Mackerel Management Committee will convene after lunch to review the Joint Public Hearing Draft for CMP Amendment 26: Changes in Allocations, Stock Boundaries and Sale Provisions for Gulf of Mexico and Atlantic Migratory Groups of King Mackerel, and an Options Paper for CMP Amendment 28: Separating Permits for Gulf of Mexico and Atlantic Migratory Groups of King Mackerel and Spanish Mackerel. The Data Collection Committee will then review the Public Hearing Draft—Joint Electronic Charter Vessel Reporting Amendment; and the Gulf SEDAR Committee will review the SEDAR Steering Committee meeting and SEDAR Assessment Schedule.

Tuesday, October 6, 2015

The Reef Fish Management Committee will provide updates from the Scientific and Statistical Committee (SSC) and Reef Fish Advisory Panel (AP) meetings. The committee will discuss final action on Framework Action to set Gag Recreational Season and Gag and Black Grouper Minimum Size Limits, review options papers for Amendment to Define Gulf of Mexico Hogfish Stock and set Acceptable Catch Limits (ACL) and Status Determination Criteria and Framework Action to set Mutton Snapper ACL and management measures, and the revised Public Hearing Draft Amendment 39—Regional Management of Recreational Red Snapper. The committee will also review options papers for Adjust Minimum Stock Size Threshold (MSST) and South Florida Management Issues; discussion on the Ad Hoc Private Recreational AP. NMFS will hold a Question and Answer session immediately following the committee.

Wednesday, October 7, 2015

The Reef Fish Management Committee will continue with any remaining agenda items from the previous day. Shrimp Management Committee will review the Public Hearing Draft for Shrimp Amendment 17A—Addressing the Expiration of the Shrimp Permit Moratorium and the Draft Options Paper for Shrimp Amendment 17B—Establishing Optimum Yield, Target Number of Permits, Permit Pool, and Addressing Transit Provisions through Federal Waters.

The Full Council will convene mid-morning with a Call to Order, Announcements and Introductions; Adoption of Agenda and Approval of Minutes. The Council will review and approve the 2016 Committee Appointments. After lunch, the Council will receive presentations on the Southeast Observer Program and the Standardized Reporting Bycatch Methods; and review of Exempted Fishing Permits (EFPs) Applications, if any. The Council will receive Public Comment (2:30 p.m.-5 p.m.) on Final Action on Framework Action to Set Gag Recreational Season and Gag and Black Grouper Minimum Size Limits; followed by open testimony on any other fishery issues or concerns.

Thursday, October 8, 2015

The Council will receive management committee reports from Sustainable Fisheries/Ecosystem, Administrative Policy & Budget/Personnel, Mackerel, Data Collection, Shrimp and SEDAR. Upon returning from lunch, the Council will receive a committee report from the Reef Fish Management Committee; vote on Exempted Fishing Permit (EFP) Applications, if any, and discuss Other Business.

Meeting Adjourns

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Kathy Pereira (see ADDRESSES) at least 5 days prior to the meeting date.

Dated: September 15, 2015.
Jeffrey N. Lonergan,
Acting Deputy Director, Office of Sustainable Fisheries, National Marine Fisheries Service.

[FR Doc. 2015-23461 Filed 9-17-15; 8:45 am]

BILLING CODE 3510-22-P